DEPARTMENT OF AGRICULTURE

Forest Service

Centennial Salvage Timber Sale; Caribou-Targhee National Forest, Fremont and Clark Counties, ID

AGENCY: Forest Service, USDA.

ACTION: Notice of intent to prepare an environmental impact statement.

SUMMARY: The Forest Supervisor of the Caribou-Targhee National Forest gives notice of the agency's intent to prepare an environmental impact statement for the Centennial Salvage Timber Sale. The project area is located in the Centennial Mountains twenty-eight miles north of Ashton, Idaho. Information gathered from forest health specialist assessments, field and remote sensing reconnaissance, and the 1997 Targhee National Forest Revised Forest Plan, identified several concerns within the Douglas-fir, aspen, and whitebark pine forest community types within the Centennial Salvage Timber Sale project area. These concerns include: A large amount of forest stands moderately to highly susceptible to the Douglas-fir beetle and western spruce budworm; large areas of tree mortality due to the Douglas-fir beetle; and the decline of aspen and whitebark pine forest communities. The Ashton/Island Park Ranger District proposes to use intermediate commercial treatments on approximately 5,210 acres on forest stands that are moderately to highly susceptible to Douglas-fir beetle and western spruce budworm and prescribed fire on 718 acres of high elevation forest where whitebar pine is present. Intermediate commercial treatments include the following silvicultural methods: Commercial thinning, sanitation, salvage, and improvement cutting treatments. Commercial thinning, sanitation, salvage, and improvement cuttings would be used separately or in combination with each other, to reduce the risk and susceptibility to Douglas-fir beetle and western spruce budworm, recover economic value of dead and dying trees, and maintain and enhance aspen. Yarding systems for commercial harvest would use ground based logging equipment (tractors, rubber tired skidders, etc.). Prescribed fire would be used to remove encroaching shade tolerant conifers and stimulate natural regeneration of whitebark pine and aspen. Approximately 19.7 miles of existing Forest Service system roads and 38 miles of temporary roads would be used for timber harvest activities. The majority of temporary roads would be constructed using existing forest nonsystem road prisms. All temporary roads would be obliterated after timber harvest use. All timber harvest related activities would occur from December 15th to April 1st to remove overwintering Douglas-fir beetle and minimize disturbance to grizzly bears.

DATES: Comments concerning the scope of the analysis must be received by September 30, 2004. The draft environmental impact statement is expected February 2005 and the final environmental impact statement is expected June 2005.

ADDRESSES: Send written comments to Centennial Salvage Timber Sale, c/o Tom Silvey, Ashton/Island Park Ranger District, P.O. Box 858, Ashton, Idaho 83420. Comments can also be electronically mailed (in Microsoft Word or .rtf format) to: comment-intermtn-caribou-targhee-ashton-islandpark@fs.fed.us.

FOR FURTHER INFORMATION CONTACT: Tom Silvey, Interdisciplinary Team Leader, Ashton/Island Park Ranger District, P.O. Box 858, Ashton, Idaho 83420. Telephone: (208) 652-7442.

SUPPLEMENTARY INFORMATION: Using information gathered from forest health specialists assessments, field and remote sensing reconnaissciance, and the Revised Forest Plan for the Targheee National Forest, Forest Service personnel found several concerns with the Douglas-fir, aspen, and whitebark pine forest community types. These included:

• Approximately 42% (12,659 acres) of the forested acres in the project area are moderately to highly susceptible to the Douglas-fir beetle. Currently, within and around the project area, there is a Douglas-fir beetle and western spruce budworm epidemic. An examination of aerial flight and high resolution satellite imagery taken in 2003, identified approximately 2,200 acres of high mortality in the large mature Douglas-fir due to the Douglas-fir beetle. There is a high risk of losing substantial amounts of mature Douglas-fir stand and degrade them beyond the point of resiliency and sustainability within the project area.

• Aspen within the project area is declining due to the encroachment of conifers and lack of disturbances such as fire. This change reduces both plant and animal diversity.

• Whitebark pine is in decline within the project area. It has been identified as a community type at risk due to the devastating effects of white pine blister rust, mountain pine beetle, and competition from shade tolerant species such as subalpine fir and Engelmann spruce. The seeds of the whitebark pine are an important food source for the grizzly bear which is a primary concern within the project area.

The Targhee Revised Forest Plan management prescriptions for the Centennial Salvage Timber Sale are: Management prescription 5.3.5 Grizzly Bear Habitat, which emphasizes a high degree of security and resource conditions which contribute toward the recovery of the grizzly bear, and benefits to other wildlife; Management prescription 3.1.2 Nonmotorized; and Management prescription 3.2(g) Semi-Primitive Motorized.

Purpose and Need for Action

The purpose of the Centennial Salvage Timber Sale is to: Reduce the susceptibility and risk of forested vegetation to insects and disease, maintain and enhance aspen and whitebark pine forest communities, capture economic value from dead and dying trees, and provide a sustained yield of forest products from commercial forest lands.

Proposed Action

The Ashton/Island Park Ranger District, Caribou-Targhee National Forest proposes to treat forested vegetation using timber harvest and prescribed fire to meet the purpose and need of the project. The proposed action includes:

• Use intermediate commercial treatments on approximately 5,210 acres on forest stands that are primarily moderately to highly susceptible to the Douglas-fir beetle and western spruce budworm. Intermediate commercial treatments include the following silvicultural methods: commercial thinning, sanitation, salvage, and improvement cutting treatments. Majority of all commercial timber harvest activities would occur from December 15th to April 1st facilitate the removal of over-wintering Douglas-fir beetle and minimize disturbance to grizzly bear. Timber harvest would be accomplished by using ground based logging equipment (tractors, rubber tired skidders, low ground pressure equipment, etc.). No timber harvest activities are proposed in management prescriptions 3.1.2 and 3.2.(g) and Inventoried Roadless Areas.

• Use prescribed fire on approximately 718 acres to remove encroaching shade tolerant conifers and stimulate natural regeneration of whitebark pine and aspen. Majority of prescribed fire would take place in management prescriptions 3.1.2 and 3.2(g) with a minor amount of area in management prescription 5.3.5.

• Approximately 19.7 miles of existing Forest Service system roads and 38 miles of temporary roads would be used for timber harvest activities. The majority of temporary roads would be constructed using existing forest nonsystem road prisms. Timber harvest activity road use would occur from December 15th to April 1st. All temporary roads would be effectively closed to all motorized use from April 2nd to December 14th. To effectively close roads, earthen berms, woody debris, and rocks would be used. All temporary roads would be obliterated after timber harvest use. Obliteration activities would include using earthen berms, ripping and seeding, and waterbars. Obliteration activities would occur during summer and fall seasons. All temporary road construction and system road use for timber harvest activities would occur in management prescription 5.3.5. No net increase in motorized travel miles is proposed. No temporary roads are proposed in Inventories Roadless Areas.

Responsible Official

The responsible official is Jerry B. Reese, Forest Supervisor, Caribou-Targhee National Forest, 1405 Hollipark Dr., Idaho Falls, Idaho 83401.

Nature of Decision To Be Made

The criteria for the decision to be made will be framed around the degree to which alternative selected best addresses the purpose and need. The decision will address: How to treat this proposed project area including: The location, project design, scheduling of the proposed activities, vegetation treatments, road use, and mitigation measures and monitoring requirements.

Scoping Process

Initial public involvement will include mailing a project description and maps to interested parties to solicit comments on the proposal. No scoping meetings are planned at this time.

Comment Requested

This notice of intent initiates the scoping process which guides the development of the environmental impact statement. The Forest Service is seeking information and comments from Federal, State, and local agencies, as well as individuals and organizations that may be interested in, or affected by, the proposed action. The Forest Service invites written comments and suggestions on the issues related to the proposal and the area being analyzed.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the mertis of the alternatives formulated and discussed in the statement. Reviewers may wish to refer to the council on Environmental Quality Regulations for implementing the procedural provisions of the National Environmental Policy Act at 40 CFR 1503.3 in addressing these points.

Comments received, including the names and addresses of those who comments, will be considered part of the public record on this proposal and will be available for public inspection.

(Authority: 40 CFR 1501.7 and 1508.22; Forest Service Handbook 1909.15, Section 21)

Dated: August 31, 2004.
Jerry B. Reese,
Forest Supervisor.

[FR Doc. 04-20367 Filed 9-8-04; 8:45 am]

BILLING CODE 3410-11-M